INTERNATIONAL TRADE COMMISSION

[Investigation No. 337-TA-1057]

Consolidated Advisory Opinion and Enforcement Proceeding; Certain Robotic Vacuum Cleaning Devices and Components Thereof Such as Spare Parts Commission's Determination Not to Review an Initial Determination Terminating the Advisory Opinion Proceeding; Termination of Advisory Opinion Proceeding

AGENCY: U.S. International Trade Commission.

ACTION: Notice.

SUMMARY: Notice is hereby given that the U.S. International Trade Commission (“the Commission”) has determined not to review an initial determination (“ID”) (Order No. 52) issued by the presiding administrative law judge (“ALJ”) that terminates the advisory opinion proceeding.

FOR FURTHER INFORMATION CONTACT: Robert Needham, Office of the General Counsel, U.S. International Trade Commission, 500 E Street SW, Washington, DC 20436, telephone (202) 708-5468. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server (https://www.usitc.gov). The public record for this investigation may be viewed on the Commission's electronic docket (EDIS) at https://edis.usitc.gov. Hearing-impaired persons are advised that information on this matter can be obtained by contacting the Commission's TDD terminal on (202) 205-1810.

SUPPLEMENTARY INFORMATION: The Commission instituted an investigation on May 23, 2017, based on a complaint filed by iRobot Corporation of Bedford, Massachusetts (“iRobot”). 82 FR 23593-94. The complaint, as supplemented, alleged violations of section 337 of the Tariff Act of 1930, as amended, 19 U.S.C. 1337, in the importation into the United States, the sale for importation, and the sale within the United States after importation of certain robotic vacuum cleaning devices and components thereof that infringe certain claims of, inter alia, U.S. Patent No. 9,038,233 (“the '233 patent”). Id. The Commission's notice of investigation named as respondents, inter alia, Shenzhen Silver Star Intelligent Technology Co., Ltd., of Shenzhen, China (“Silver Star”), and bObsweep USA, of Henderson, Nevada, and bObsweep Inc., of Toronto, Canada (together, “bObsweep”). Id. at 23593. The Office of Unfair Import Investigations did not participate in the investigation. Id.

On November 30, 2018, the Commission found, inter alia, that Silver Star and bObsweep violated section 337 with respect to the '233 patent, and issued a limited exclusion order (“LEO”) against, inter alia, Silver Star and bObsweep, with respect to certain claims of the '233 patent. 83 FR 63186-87 (Dec. 7, 2018).

On January 30, 2019, Silver Star filed a request for an advisory opinion that eight of its new products do not violate the LEO. On March 21, 2019, the Commission instituted an advisory opinion proceeding, and named as parties iRobot, Silver Star, and the Office of Unfair Import Investigations (“OUII”). 84 FR 10531 (Mar. 21, 2019).

On February 21, 2019, iRobot filed an enforcement complaint against bObsweep. On April 1, 2019, the Commission instituted a formal enforcement proceeding, and named as parties iRobot, bObsweep, and OUII. 84 FR 12289 (Apr. 1, 2019). The Commission consolidated the formal enforcement proceeding with the advisory opinion proceeding described above.

On April 12, 2019, iRobot and Silver Star filed a joint motion to terminate the advisory opinion proceeding based on a settlement agreement. On April 24, 2019, OUII filed a response in support of the motion.

On April 25, 2019, the ALJ issued the subject ID, granting the motion and terminating the advisory opinion proceeding. The ALJ found that the motion complied with Rule 210.21(b) and that there is no evidence that termination by settlement has any adverse effect on the public interest. No petitions for review of the ID were filed.

The Commission has determined not to review the subject ID and terminates the advisory opinion proceeding. The Commission clarifies that this notice does not terminate the enforcement proceeding that was consolidated with the advisory opinion proceeding.

The authority for the Commission's determination is contained in section 337 of the Tariff Act of 1930, as amended (19 U.S.C. 1337), and in part 210 of the Commission's Rules of Practice and Procedure (19 CFR part 210).

By order of the Commission.
Issued: May 15, 2019.
Lisa Barton,
Secretary to the Commission.

[FR Doc. 2019-10996 Filed 5-24-19; 8:45 am]

BILLING CODE 7020-02-P